DEPARTMENT OF TRANSPORTATION

Federal Aviation Administration

RTCA Special Committee 192; National Airspace Review Planning and Analysis

Pursuant to section 10(a)(2) of the Federal Advisory Committee Act (Pub. L. 92-463, 5 U.S.C., Appendix 2), notice is hereby given for a Special Committee 192 meeting to be held July 18, 2000, starting at 9:00 a.m. The meeting will be held at RTCA, Inc., 1140 Connecticut Avenue, NW., Suite 1020, Washington, DC 20036.

The agenda will be as follows: (1) Welcome and Introductory Remarks; (2) Review/Approval of Meeting of Previous Plenary Minutes; (3) Discuss Document Comment Form on Working Group 3 (User Recommendations on FAA Order 7400.2—Procedures for Handling Airspace Matters) Product and Reach Final Product Approval Consensus; (4) Discuss Document Comment Form on Working Group 2 (Special-Use Airspace in National Airspace Redesign) Product and Reach Final Product Approval Consensus; (5) Discuss Document Comment Form on Working Group 1 (High Altitude Procedures for Handling Airspace Matters) Product and Reach Final Product Approval Consensus; (6) Date and location of Next Meeting; and (7) Closing.

Attendance is open to the interested public but limited to space availability. With the approval of the chairman, members of the public may present oral statements at the meeting. Persons wishing to present statements or obtain information should contact the RTCA Secretariat, 1140 Connecticut Avenue, NW., Washington, DC, 20036; (202) 833-9339 (phone), (202) 833-9434 (fax), or http://www.rtca.org (web site). Members of the public may present a written statement to the committee at any time.

Issued in Washington, DC, on July 3, 2000.
Janice L. Peters,
Designated Official.

[FR Doc. 00-17381 Filed 7-7-00; 8:45 am]

BILLING CODE 4910-13-M